FEDERAL LABOR RELATIONS AUTHORITY

5 CFR Chapter XIV

New Addresses

AGENCY: Federal Labor Relations Authority.

ACTION: Final rule; correction.

SUMMARY: On March 9, 2005 (70 FR 11535), a final rule was published announcing the relocation of the Boston Regional Office of the Federal Labor Relations Authority effective March 21, 2005. However, the moving date of the Boston Regional Office has been delayed and the relocation will be effective April 25, 2005.

DATES: Effective Date: March 9, 2005.

FOR FURTHER INFORMATION CONTACT: Yvonne Thomas, Director, Administrative Services Division, Federal Labor Relations Authority, 1400 K Street, NW., Washington, DC 20424-0001; (202) 218-7750.

Dated: March 10, 2005.
Yvonne Thomas,
Director, Administrative Services Division.

[FR Doc. 05-5053 Filed 3-10-05; 12:59 pm]

BILLING CODE 6727-01-P